FEDERAL ACCOUNTING STANDARDS ADVISORY BOARD

Notice of Issuance of Statement of Federal Financial Accounting Standards

AGENCY: Federal Accounting Standards Advisory Board.

ACTION: Notice of Issuance of Statement of Federal Financial Accounting Standards (SFFAS) No. 20, Elimination of Certain Disclosures Related to Tax Revenue Transactions by the Internal Revenue Service, Customs, and Others—Amendment to SFFAS 7, Accounting for revenue and other financing sources.

Board Action: Pursuant to the Federal Advisory Committee Act (Pub. L. No. 92-463), as amended, and the FASAB Rules Of Procedure, as amended in October, 1999, notice is hereby given that the Federal Accounting Standards Advisory Board (FASAB) has issued Statement of Federal Financial Accounting Standards (SFFAS) No. 20, Elimination of Certain Disclosures Related to Tax Revenue Transactions by the Internal Revenue Service, Customs, and Others, Amendments to SFFAS No. 7, Accounting for Revenue and Other Financing Sources.

The Board approved the Statement in June 2001, and submitted it to FASAB principals for a 90-day review. The review period closed on September 29, 2001.

SFFAS No. 20 rescinds paragraph 65.2 of SFFAS 7, the provisions of which could, absent very detailed explanations, result in information being given to readers of the financial statements that they might misinterpret.

The standards prescribed in SFFAS No. 20 are effective for periods beginning after September 30, 2000. Hard copies of the statement will be mailed to the FASAB mailing list. It is also available on the FASAB web site at www.financenet.gov/fasab.htm or by calling 202-512-7350.

FOR FURTHER INFORMATION CONTACT: Wendy Comes, Executive Director, 441 G St., NW., Mail Stop 6K17V, Washington, DC 20548, or call (202) 512-7350.

Authority: Federal Advisory Committee Act. Pub. L. No. 92-463.

Dated: October 12, 2001.
Wendy M. Comes,
Executive Director.

[FR Doc. 01-26165 Filed 10-16-01; 8:45 am]

BILLING CODE 1610-01-M